DEPARTMENT OF STATE

[Public Notice 8341]

Shipping Coordinating Committee; Notice of Committee Meeting

The Shipping Coordinating Committee (SHC) will conduct an open meeting at 9:30 a.m. on Wednesday, August 14, 2013, in Room 51309 of the United States Coast Guard Headquarters Building, 2100 Second Street SW., Washington, DC 20593-0001. The primary purpose of the meeting is to prepare for the fifty-ninth Session of the International Maritime Organization's (IMO) Sub-Committee on Safety of Navigation to be held at the IMO Headquarters, United Kingdom, September 2-6, 2013.

The primary matters to be considered include:

—Routeing of ships, ship reporting and related matters

—Application of the satellite navigation system “BeiDou” in the maritime field

—International Telecommunication Union (ITU) matters, including Radiocommunication ITU-R Study Group matters

—Development of an e-navigation strategy implementation plan

—Development of policy and new symbols for AIS aids to navigation

—Review of general cargo ship safety

—Revision of the information contained in the existing annexes to the Recommendation on the use of adequately qualified deep-sea pilots in the North Sea, English Channel and Skagerrak (resolution A.486(XII))

—Revision of the Guidelines for the onboard operational use of shipborne automatic identification systems (AIS)

—Consolidation of ECDIS-related IMO circulars

—Consideration of ECDIS matters related to the implementation of the carriage requirements in SOLAS regulations V/19.2.10 and V/19.2.11

—Development of explanatory footnotes to SOLAS regulations V/15, V/18,V/19 and V/27

—Revision of the information contained in the existing annexes to the Recommendation on the use of adequately qualified deep-sea pilots in the Baltic (resolution A.480(XII))

—Casualty analysis

—Consideration of International Association of Classification Societies (IACS) unified interpretations

—Biennial agenda and provisional agenda for NAV 60

—Report to the Maritime Safety Committee

Members of the public may attend this meeting up to the seating capacity of the room. To facilitate the building security process, and to request reasonable accommodation, those who plan to attend should contact the meeting coordinator, Mr. George H. Detweiler, Jr., by email at George.H.Detweiler@uscg.mil, by phone at (202) 372-1566, by fax at (202) 372-1991, or in writing at Commandant (CG-NAV-3), U.S. Coast Guard, 2100 2nd Street SW., Stop 7580, Washington, DC 20593-7580 not later than August 7, 2013, seven days prior to the meeting. Requests for reasonable accommodation made after August 7, 2013 might not be able to be fulfilled. Please note that due to security considerations, two valid, government issued photo identifications must be presented to gain entrance to the Headquarters building. The Headquarters building is accessible by taxi and privately owned conveyance (public transportation is not generally available). However, parking in the vicinity of the building is limited. Additional information regarding this and other IMO SHC public meetings may be found at: www.uscg.mil/imo.

Dated: May 24, 2013.
Brian Robinson,
Executive Secretary, Shipping Coordinating Committee, Department of State.

[FR Doc. 2013-12941 Filed 5-30-13; 8:45 am]

BILLING CODE 4710-09-P